DEPARTMENT OF COMMERCE

International Trade Administration

[A-602-807; A-351-842; A-570-022; A-560-828; A-471-807]

Uncoated Paper From Australia, Brazil, the People's Republic of China, Indonesia, and Portugal: Final Results of the Expedited First Sunset Reviews of the Antidumping Duty Orders

AGENCY: Enforcement and Compliance, International Trade Administration, Department of Commerce.

SUMMARY: As a result of these sunset reviews, the Department of Commerce (Commerce) finds that revocation of the antidumping duty (AD) orders on certain uncoated paper (uncoated paper) from Australia, Brazil, the People's Republic of China (China), Indonesia, and Portugal would be likely to lead to the continuation or recurrence of dumping at the levels indicated in the “Final Results of Review” section of this notice.

DATES: Applicable June 1, 2021.

FOR FURTHER INFORMATION CONTACT: Patrick Barton, AD/CVD Operations, Office III, Enforcement and Compliance, International Trade Administration, U.S. Department of Commerce, 1401 Constitution Avenue NW, Washington, DC 20230; telephone: (202) 482-0012.

SUPPLEMENTARY INFORMATION:

Background

On February 1, 2021, Commerce published the notice of initiation of the first sunset reviews of the Orders ¹ on certain uncoated paper (uncoated paper) from Australia, Brazil, China, Indonesia, and Portugal pursuant to section 751(c)(2) of the Tariff Act of 1930, as amended (the Act).² On February 12, 2021, Commerce received a notice of intent to participate from Domtar Corporation (Domtar), Finch Paper LLC (Finch), and North Pacific Paper Company (NORPAC), within the deadline specified in 19 CFR 351.218(d)(1)(i).³ Domtar, Finch, and NORPAC claimed interested party status under section 771(9)(C) of the Act, as domestic producers of uncoated paper in the United States. On February 16, 2021, Commerce received notice of intent to participate from Packaging Corporation of America (PCA) and United Steel, Paper and Forestry, Rubber, Manufacturing, Energy, Allied Industrial and Services Workers International Union (USW), within the deadline specified in 19 CFR 351.218(d)(1)(i).⁴ PCA claimed interested party status under section 771(9)(C) of the Act and 19 CFR 351.102(b)(29)(v), as a domestic producer of uncoated paper in the United States, and USW claimed interested party status under section 771(9)(D) of the Act and 19 CFR 351.102(b)(29)(vi), as a certified union with workers engaged in the manufacture and production of the domestic like product in the United States.

¹ See Certain Uncoated Paper from Australia, Brazil, Indonesia, the People's Republic of China, and Portugal: Amended Final Affirmative Antidumping Determinations for Brazil and Indonesia and Antidumping Duty Orders, 81 FR 11174 (March 3, 2016) (Orders).

² See Initiation of Five-Year (Sunset) Reviews, 86 FR 7709 (February 1, 2021).

³ See Domtar, Finch, and NORPAC's Letters, “First Five-Year (“Sunset”) Review of Antidumping Order on Certain Uncoated Paper from Australia: Domestic Industry's Notice of Intent to Participate in Sunset Review,” dated February 12, 2021; “First Five-Year (“Sunset”) Review of Antidumping Order on Certain Uncoated Paper from Brazil: Domestic Industry's Notice of Intent to Participate in Sunset Review,” dated February 12, 2021; “First Five-Year (“Sunset”) Review of Antidumping Order on Certain Uncoated Paper from the People's Republic of China: Domestic Industry's Notice of Intent to Participate in Sunset Review,” dated February 12, 2021; “First Five-Year (“Sunset”) Review of Antidumping Order on Certain Uncoated Paper from Indonesia: Domestic Industry's Notice of Intent to Participate in Sunset Review,” dated February 12, 2021; and “First Five-Year (“Sunset”) Review of Antidumping Order on Certain Uncoated Paper from Portugal: Domestic Industry's Notice of Intent to Participate in Sunset Review,” dated February 12, 2021.

⁴ See PCA and USW's Letters, “Notice of Intent to Participate in the First Five-Year Review of the Antidumping Duty Order on Certain Uncoated Paper from Australia,” dated February 16, 2021; “Notice of Intent to Participate in the First Five-Year Review of the Antidumping Duty Order on Certain Uncoated Paper from Brazil,” dated February 16, 2021; “Notice of Intent to Participate in the First Five-Year Review of the Antidumping Duty Order on Certain Uncoated Paper from the People's Republic of China,” dated February 16, 2021; “Notice of Intent to Participate in the First Five-Year Review of the Antidumping Duty Order on Certain Uncoated Paper from Indonesia,” dated February 16, 2021; and “Notice of Intent to Participate in the First Five-Year Review of the Antidumping Duty Order on Certain Uncoated Paper from Portugal,” dated February 16, 2021.

On March 1, 2021, Commerce received a complete substantive response from the domestic interested parties ⁵ within the 30-day deadline specified in 19 CFR 351.218(d)(3).⁶ No respondent interested party submitted a substantive response within the 50-day deadline. As a result, pursuant to section 751(c)(3)(B) of the Act and 19 CFR 351.218(e)(1)(ii)(C)(2), Commerce is conducting expedited (120-day) sunset reviews of the Orders.

⁵ Collectively, Domtar, Finch Paper, NORPAC, PCA, and USW are referred to as the domestic interested parties.

⁶ See Domestic Interested Parties' Letters, “First Five-Year (“Sunset”) Review of Antidumping Order on Certain Uncoated Paper from Australia: Domestic Industry's Substantive Response to Notice of Initiation,” dated March 1, 2021 (Substantive Response—Australia); “First Five-Year (“Sunset”) Review of Antidumping Order on Certain Uncoated Paper from Brazil: Domestic Industry's Substantive Response to Notice of Initiation,” dated March 1, 2021 (Substantive Response—Brazil); “First Five-Year (“Sunset”) Review of Antidumping Order on Certain Uncoated Paper from the People's Republic of China: Domestic Industry's Substantive Response to Notice of Initiation,” dated March 1, 2021 (Substantive Response—China); “First Five-Year (“Sunset”) Review of Antidumping Order on Certain Uncoated Paper from Indonesia: Domestic Industry's Substantive Response to Notice of Initiation,” dated March 1, 2021 (Substantive Response—Indonesia); and “First Five-Year (“Sunset”) Review of Antidumping Order on Certain Uncoated Paper from Portugal: Domestic Industry's Substantive Response to Notice of Initiation,” dated March 1, 2021 (Substantive Response—Portugal) (collectively, Substantive Response).

Scope of the Orders

The scope of these orders includes uncoated paper in sheet form; weighing at least 40 grams per square meter but not more than 150 grams per square meter; that either is a white paper with a GE brightness level 3 of 85 or higher or is a colored paper; whether or not surface-decorated, printed (except as described below), embossed, perforated, or punched; irrespective of the smoothness of the surface; and irrespective of dimensions (Certain Uncoated Paper).

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the orders is dispositive.⁷

⁷ For a full description of the scope of the orders, see Memorandum, “Issues and Decision Memorandum for the Final Results of the Expedited First Sunset Reviews of the Antidumping Duty Orders on Certain Uncoated Paper from Australia, Brazil, the People's Republic of China, Indonesia, and Portugal,” dated concurrently with, and hereby adopted by, this notice (Issues and Decision Memorandum).

Analysis of Comments Received

All issues raised in these sunset reviews are addressed in the accompanying Issues and Decision Memorandum, which is hereby adopted by this notice.⁸ The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. A complete version of the Issues and Decision Memorandum can be accessed at http://enforcement.trade.gov/frn/.

⁸ See Issues and Decision Memorandum.

Final Results of Review

Pursuant to sections 751(c)(1) and 752(c)(1) and (3) of the Act, Commerce determines that revocation of the AD orders on uncoated paper from Australia, Brazil, China, Indonesia, and Portugal would be likely to lead to the continuation or recurrence of dumping, and that the magnitude of the margins likely to prevail are up to: 222.46 percent for Australia, 41.39 percent for Brazil, 149.00 percent for China, 17.46 percent for Indonesia, and 7.80 percent for Portugal.

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752, and 777(i)(1) of the Act and 19 CFR 351.218.

Dated: May 25, 2021.
Christian Marsh,
Acting Assistant Secretary for Enforcement and Compliance.

Appendix—List of Topics Discussed in the Issues and Decision Memorandum

I. Summary

II. Background

III. Scope of the Orders

IV. History of the Orders

V. Legal Framework

VI. Discussion of the Issues

1. Likelihood of Continuation of Recurrence of Dumping

2. Magnitude of the Margins Likely to Prevail

VII. Final Results of Expedited First Sunset Review

VIII. Recommendation

[FR Doc. 2021-11460 Filed 5-28-21; 8:45 am]

BILLING CODE 3510-DS-P